DEPARTMENT OF TRANSPORTATION

Federal Aviation Administration

[Docket No.: FAA-2021-1138]

Agency Information Collection Activities: Requests for Comments; Clearance of a New Approval of Information Collection: Computerized Neurocognitive Tests for Aeromedical Safety

AGENCY: Federal Aviation Administration (FAA), DOT.

ACTION: Notice and request for comments.

SUMMARY: In accordance with the Paperwork Reduction Act of 1995, the Federal Aviation Administration (FAA) invites public comments about our intention to request the Office of Management and Budget (OMB) approval for a new Information Collection (IC) effort. The collection involves in-person sessions between researchers, certified pilots, and air traffic control specialists (ATCS). Computerized neurocognitive tests are a non-invasive way to measure cognitive function (e.g., attention, working memory, information processing speed, reaction time) and are used as part of the FAA's overall aeromedical physical exam process to determine if a pilot is safe to operate an aircraft within the National Airspace System (NAS) and if an ATCS is safe to return to duty. Neurocognitive tests are required only for pilots and ATCSs with certain medical conditions associated with aeromedically significant cognitive impairments (i.e., not all pilots and ATCSs are tested). The FAA needs to ensure that the tests and data used to maintain the safety of the NAS are based on the most current scientific knowledge. The purpose of this IC effort is to obtain updated pilot and ATCS normative data for the FAA's current neurocognitive test and alternative neurocognitive tests under consideration. The IC effort will be used to potentially revise the FAA's Aviation Medical Examiners (AME) Guide, update clinical practices, and assure aeromedical safety. Information will be collected from representative pilots and ATCSs across the United States, who will complete two different 1-hour neurocognitive tests. Total IC effort/time per person will be approximately four hours (i.e., to include check-in processing, informed consent, neurocognitive test-taking, rest breaks, and participant debrief).

DATES: Written comments should be submitted by February 14, 2022.

ADDRESSES: Please send written comments:

By Electronic Docket: https://www.regulations.gov (Enter docket number into search field).

By mail: Susan M. Jay, Ph.D., Bldg. 13, Rm 155C, 6500 S. MacArthur Blvd., Oklahoma City, OK 73125.

By fax: (405) 954-0130.

FOR FURTHER INFORMATION CONTACT: Susan M. Jay, Ph.D., by email at: susan.m.jay@faa.gov; phone: (405) 954-5500.

SUPPLEMENTARY INFORMATION:

Public Comments Invited: You are asked to comment on any aspect of this information collection effort to include: (a) Whether the proposed information collection effort is necessary for the FAA's performance; (b) the accuracy of the estimated burden; (c) ways for the FAA to enhance the quality, utility, and clarity of the information collection effort; and (d) ways that the burden could be minimized without reducing the quality of the collected information. The agency will summarize and/or include your comments in the request for OMB's clearance of this information collection effort.

OMB Control Number: 2120-XXXX.

Title: Computerized Neurocognitive Tests for Aeromedical Safety.

Form Numbers: List all forms.

Type of Review: New information collection.

Background: The FAA's mission and vision is to provide the safest, most efficient aerospace system in the world as new users and technologies integrate into the system. Computerized neurocognitive tests are a non-invasive way to measure cognitive function (e.g., attention, working memory, information processing speed, reaction time). Neurocognitive tests are used as part of the FAA's overall aeromedical physical exam process to determine if a pilot is safe to operate an aircraft within the NAS and if an ATCS is safe to return to duty. Neurocognitive tests are required only for pilots and ATCSs with certain medical conditions associated with aeromedically significant cognitive impairments (i.e., not all pilots and ATCSs are tested). The FAA needs to ensure that the tests and data used to maintain the safety of the NAS based on the most current scientific knowledge. The purpose of this IC effort is to obtain updated pilot and ATCS normative data for the current test and alternative neurocognitive tests under consideration. The IC effort will be used to potentially revise the FAA's AME Guide, update clinical practices, and assure aeromedical safety.

Respondents: 1,500 respondents.

Frequency: One-time collection.

Estimated Average Burden per Response: 4-hours burden per respondent-response.

Estimated Total Annual Burden: 6,000 hours, total burden.

Issued in Oklahoma City, Oklahoma, on December 10, 2021.
Susan M. Jay,
Aviation Safety, Research Physiologist, Civil Aerospace Medical Institute (CAMI), Federal Aviation Administration.

[FR Doc. 2021-27186 Filed 12-15-21; 8:45 am]

BILLING CODE 4910-13-P